NATIONAL SCIENCE FOUNDATION

Large Scale Networking (LSN)—Middleware and Grid Interagency Coordination (MAGIC) Team

AGENCY: The Networking and Information Technology Research and Development (NITRD) National Coordination Office (NCO). Reference the NITRD Web site at: http://www.nitrd.gov/.

ACTION: Notice of meetings.

Contact: Dr. Grant Miller at miller@nitrd.gov or (703) 292-4873.

Date/Location: The MAGIC Team meetings are held on the first Wednesday of each month, 2:00-4:00 p.m., at the National Science Foundation, 4201 Wilson Boulevard, Arlington, VA 22230. Please note that public seating for these meetings is limited and is available on a first-come, first served basis. WebEx participation is available for each meeting. Please reference the MAGIC Team Web site for updates.

Magic Web site: The agendas, minutes, and other meeting materials and information can be found on the MAGIC Web site at: http://www.nitrd.gov/nitrdgroups/index.php?title=Middleware_And_Grid_Interagency_Coordination_(MAGIC)#title.

SUMMARY: The MAGIC Team, established in 2002, provides a forum for information sharing among Federal agencies and non-Federal participants with interests and responsibility for middleware, Grid, and cloud projects. The MAGIC Team reports to the Large Scale Networking (LSN) Coordinating Group (CG).

Public Comments: The government seeks individual input; attendees/participants may provide individual advice only. Members of the public are welcome to submit their comments to magic-comments@nitrd.gov. Please note that under the provisions of the Federal Advisory Committee Act (FACA), all public comments and/or presentations will be treated as public documents and will be made available to the public via the MAGIC Team Web site.

Submitted by the National Science Foundation in support of the Networking and Information Technology Research and Development (NITRD) National Coordination Office (NCO) on November 19, 2013.

Suzanne H. Plimpton,
Reports Clearance Officer, National Science Foundation.

[FR Doc. 2013-28073 Filed 11-21-13; 8:45 am]

BILLING CODE 7555-01-P